DEPARTMENT OF JUSTICE

Notice of Public Meeting Concerning Heavy Duty Diesel Engine Consent Decrees

The Department of Justice and the Environmental Protection Agency will hold a public meeting on Tuesday, July 15, 2003, at 10 a.m. at the Department of Justice, 1425 New York Avenue, NW., Washington, DC, 13th Floor Conference Room. The subject of the meeting will be the status of the implementation of the provisions of the seven consent decrees signed by the United States and diesel engine manufacturers and entered by the United States District Court for the District of Columbia on July 1, 1999. (United States v. Caterpillar, Case No. 1:98CV02544; United States v. Navistar International Transportation Corporation, Case No. 1:98CV02545; United States v. Cummins Engine Company, Case No. 1:98CV02546; United States v. Detroit Diesel Corporation, Case No. 1:98CV02548; United States v. Volvo Truck Corporation, Case No. 1:98CV02547; United States v. Mack Trucks, Inc., Case No. 1:98CV01495; and United States v. Renault Vehicles Industries, S.A., Case No. 1:98CV02543). In supporting entry by the court of the decrees, the United States committed to meet with States, industry groups, environmental groups, and concerned citizens to discuss consent decree implementation issues. This is the eighth such public meeting.

Future meetings will be announced here and on EPA's Diesel Engine Settlement Web site at: http://www.epa.gov/compliance/civil/programs/caa/diesel/index.html.

Interested parties may contact the Environmental Protection Agency prior to the meeting at the address listed below with questions or suggestions for topics of discussion.

Agenda (times are approximate)

1. Panel remarks 10 a.m.

Remarks by DOJ and EPA regarding implementation of the provisions of the diesel engine consent decrees.

2. Public comments and questions.

Adjourn 12 p.m.

For further information, please contact: Anne Wick, EPA Diesel Engine Consent Decree Coordinator, U.S. Environmental Protection Agency (Mail Code 2242A), 1200 Pennsylvania Avenue, NW., Washington, DC 20460, e-mail: wick.anne@epa.gov.

Karen S. Dworkin,
Assistant Chief, Environment & Natural Resources Division, Environmental Enforcement Section.

[FR Doc. 03-16075 Filed 6-24-03; 8:45 am]

BILLING CODE 4410-15-M